FEDERAL COMMUNICATIONS COMMISSION

47 CFR Part 73

[DA 99-3040; MM Docket No. 98-72; RM-9265, RM-9368]

Radio Broadcasting Services; Middlebury, Berlin and Hardwick, VT

AGENCY: Federal Communications Commission.

ACTION: Final rule.

SUMMARY: The Commission, at the request of Dynamite Radio, Inc., substitutes Channel 265C2 for Channel 265A at Middlebury, VT, reallots Channel 265C2 to Berlin, VT, and modifies the license of Station WGTK to specify operation on the higher class channel and specify Berlin as its community of license. See 63 FR 36387, July 6, 1998. At the request of Montpelier Broadcasting, Inc., the Commission allots Channel 290A to Hardwick, VT, as the community's first local aural service. Channel 265C2 can be allotted to Berlin in compliance with the Commission's minimum distance separation requirements, with respect to domestic allotments, with a site restriction of 11.1 kilometers (6.9 miles) north of the community, at coordinates 44-18-15 NL; 72-37-24 WL. The site restriction does not obviate the short-spacings to Stations CBF-FM, Channel 265C1, Montreal, Quebec, and CBF10F, Channel 266B, Sherbrook, Quebec, Canada. Channel 290A can be allotted to Hardwick in compliance with the Commission's minimum distance separation requirements, with respect to domestic allotments, without the imposition of a site restriction, at coordinates 44-30-18 NL; 72-22-24 WL. The allotment coordinates do not obviate the short-spacing to Stations CFGL, Channel 289C1, Laval, Quebec, and CIMO, Channel 289C1, Magog, Quebec, Canada. Since both Berlin and Hardwick are located within 320 kilometers (200 miles) of the U.S.-Canadian border, Canadian concurrence in these allotments, as specially negotiated short-spaced allotments, has been obtained. A filing window for Channel 290A at Hardwick, VT, will not be opened at this time. Instead, the issue of opening a filing window for this channel will be addressed by the Commission in a subsequent order.

DATES: Effective February 21, 2000.

FOR FURTHER INFORMATION CONTACT: Leslie K. Shapiro, Mass Media Bureau, (202) 418-2180.

SUPPLEMENTARY INFORMATION: This is a synopsis of the Commission's Report and Order, MM Docket No. 98-72, adopted December 28, 1999, and released January 7, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—[AMENDED]

1. The authority citation for Part 73 continues to read as follows:

Authority: 47 U.S.C. 154, 303, 334. 336.

§ 73.202 [Amended]

2. Section 73.202(b), the Table of FM Allotments under Vermont, is amended by removing Middlebury, Channel 265A, and by adding Berlin, Channel 265C2 and Hardwick, Channel 290A.

Federal Communications Commission.
John A. Karousos,
Chief, Allocations Branch, Policy and Rules Division, Mass Media Bureau.

[FR Doc. 00-1266 Filed 1-19-00; 8:45 am]

BILLING CODE 6712-01-P